DEPARTMENT OF HEALTH AND HUMAN SERVICES

Agency for Healthcare Research and Quality

Notice of Meetings

AGENCY: Agency for Healthcare Research and Quality (AHRQ), HHS.

ACTION: Notice of five AHRQ subcommittee meetings.

SUMMARY: The subcommittees listed below are part of AHRQ's Health Services Research Initial Review Group Committee. Grant applications are to be reviewed and discussed at these meetings. Each subcommittee meeting will commence in open session before closing to the public for the duration of the meeting.

DATES: See SUPPLEMENTARY INFORMATION for specific meeting dates and times.

ADDRESSES: Hilton Rockville & Executive Meeting Center, 1750 Rockville Pike, Rockville, Maryland 20852.

FOR FURTHER INFORMATION CONTACT: (To obtain a roster of members, agenda or minutes of the non-confidential portions of the meetings.) Mrs. Bonnie Campbell, Committee Management Officer, Office of Extramural Research Education and Priority Populations, Agency for Healthcare Research and Quality (AHRQ), 5600 Fishers Lane, Rockville, Maryland 20857, Telephone (301) 427-1554.

SUPPLEMENTARY INFORMATION: These meetings will be closed to the public in accordance with 5 U.S.C. App. 2 section 10(d), 5 U.S.C. 552b(c)(4), and 5 U.S.C. 552b(c)(6). In accordance with section 10(a)(2) of the Federal Advisory Committee Act (5 U.S.C. App. 2), AHRQ announces meetings of the above-listed scientific peer review groups, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

The meeting dates and times are:

1. Health Care Research and Training (HCRT)

Date: May 24-25, 2018 (Open from 8:00 a.m. to 8:30 a.m. on May 24th and closed for remainder of the meeting)

2. Health System and Value Research (HSVR)

Date: June 6, 2018 (Open from 8:00 a.m. to 8:30 a.m. on June 6th and closed for remainder of the meeting)

3. Healthcare Effectiveness and Outcomes Research (HEOR)

Date: June 6, 2018 (Open from 8:30 a.m. to 9:00 a.m. on June 6th and closed for remainder of the meeting)

4. Healthcare Safety and Quality Improvement Research (HSQR)

Date: June 6-7, 2018 (Open from 7:30 a.m. to 8:00 a.m. on June 6th and closed for remainder of the meeting)

5. Healthcare Information Technology Research (HITR)

Date: June 7-8, 2018 (Open from 8:00 a.m. to 8:30 a.m. on June 7th and closed for remainder of the meeting)

Francis D. Chesley, Jr.,
Acting Deputy Director.

[FR Doc. 2018-09744 Filed 5-7-18; 8:45 am]

BILLING CODE 4160-90-P